INTERNATIONAL TRADE COMMISSION

[Investigation Nos. 701-TA-523 and 731-TA-1259 (Review)]

Boltless Steel Shelving Units Prepackaged for Sale From China

Determinations

On the basis of the record ¹ developed in the subject five-year reviews, the United States International Trade Commission (“Commission”) determines, pursuant to the Tariff Act of 1930 (“the Act”), that revocation of the antidumping and countervailing duty orders on boltless steel shelving units prepackaged for sale from China would be likely to lead to continuation or recurrence of material injury to an industry in the United States within a reasonably foreseeable time.

¹ The record is defined in § 207.2(f) of the Commission's Rules of Practice and Procedure (19 CFR 207.2(f)).

Background

The Commission instituted these reviews on September 1, 2020 (85 FR 54404) and determined on December 7, 2020 that it would conduct expedited reviews (86 FR 18295, April 8, 2021).

The Commission made these determinations pursuant to section 751(c) of the Act (19 U.S.C. 1675(c)). It completed and filed its determinations in these reviews on April 29, 2021. The views of the Commission are contained in USITC Publication 5190 (April 2021), entitled Boltless Steel Shelving Units Prepackaged for Sale from China: Investigation Nos. 701-TA-523 and 731-TA-1259 (Review).

By order of the Commission.
Issued: April 29, 2021.
Lisa Barton,
Secretary to the Commission.

[FR Doc. 2021-09429 Filed 5-4-21; 8:45 am]

BILLING CODE 7020-02-P